COMMISSION ON CIVIL RIGHTS

Notice of Public Meetings of the Arkansas Advisory Committee

AGENCY: U.S. Commission on Civil Rights.

ACTION: Announcement of meeting.

SUMMARY: Notice is hereby given, pursuant to the provisions of the rules and regulations of the U.S. Commission on Civil Rights (Commission) and the Federal Advisory Committee Act that the Arkansas Advisory Committee (Committee) will hold a virtual (online) meeting Friday, March 4, 2022 at 1:00 p.m. Central Time. The purpose of the meeting is for the Committee to hear continued testimony reegarding IDEA compliance and implementation in Arkansas schools.

DATES: The meeting will be held on Friday, March 4, 2022 1:00 p.m.-3:00 p.m. Central time.

Web Access (Audio/Visual): Register at: https://bit.ly/3BdiRyJ.

Phone Access (Audio Only): 800-360-9505, Access Code: 2760 162 7443.

FOR FURTHER INFORMATION CONTACT: Melissa Wojnaroski, Designated Federal Officer, at mwojnaroski@usccr.gov or (202) 618-4158.

SUPPLEMENTARY INFORMATION: Members of the public may join online or listen to this discussion through the above call-in number. An open comment period will be provided to allow members of the public to make a statement as time allows. Callers can expect to incur regular charges for calls they initiate over wireless lines, according to their wireless plan. ASL interpretation and closed captions will be provided. Individuals requiring other reasonable accomodatations should contact Corrine Sanders at csanders@usccr.gov in advance of the meeting to make their request.

Members of the public are entitled to submit written comments; the comments must be received in the regional office within 30 days following the meeting. Written comments may be emailed to Melissa Wojnaroski at mwojnaroski@usccr.gov.

Records generated from this meeting may be inspected and reproduced at the Regional Programs Unit Office, as they become available, both before and after the meeting. Records of the meeting will be available via www.facadatabase.gov under the Commission on Civil Rights, Arkansas Advisory Committee link. Persons interested in the work of this Committee are directed to the Commission's website, http://www.usccr.gov, or may contact the Regional Programs Unit at the above email or street address.

Agenda

I. Welcome & Roll Call

II. Panel Discussion: IDEA Compliance and Implementation in Arkansas School

III. Public Comment

VI. Adjournment

Exceptional Circumstance: Pursuant to 41 CFR 102-3.150, the notice for this meeting is given fewer than 15 calendar days prior to the meeting because of the exceptional circumstances of pending panel testimony.

Dated: February 23, 2022.
David Mussatt,
Supervisory Chief, Regional Programs Unit.

[FR Doc. 2022-04165 Filed 2-25-22; 8:45 am]

BILLING CODE P